DEPARTMENT OF AGRICULTURE

Forest Service

Medicine Bow-Routt National Forests and Thunder Basin National Grassland; Wyoming; Inyan Kara Analysis Area Vegetation Management Phase II

AGENCY: Forest Service, USDA.

ACTION: Notice of intent to prepare an environmental impact statement.

SUMMARY: The Forest Service is analyzing the management of rangeland vegetation resources, which includes livestock grazing, on the National Forest System (NFS) lands within the Thunder Basin National Grasslands. NFS lands that comprise the Inyan Kara Analysis Area Vegetation Management Phase II will be assessed to determine how existing resource conditions compare to the desired conditions outlined in the Thunder Basin National Grassland Land and Resource Management Plan (LRMP). A management strategy will be developed in order to maintain or improve rangeland and vegetation conditions toward LRMP desired conditions.

DATES: Comments concerning the scope of the analysis must be received by the 30th day after the publication in the Federal Register. The draft environmental impact statement (EIS) is expected February 11, 2008 and the final environmental impact statement is expected May 12, 2008.

ADDRESSES: Send written comments to Marilee Houtler, NEPA Coordinator, Douglas Ranger District, 2250 East Richards Street, Douglas, Wyoming 82633 or e-mail to comments-rocky-mountain-medicine-bow-routt-douglass-thunder-basin@fs.fed.us All comments, including names and addresses when provided, are placed in the record and are available for public inspection. The public may inspect comments received at Douglas Ranger District, 2250 E. Richards, Douglas, WY 82633. Visitors are encouraged to call ahead to (307) 358-4690 to facilitate entry into the building.

FOR FURTHER INFORMATION CONTACT: Ernie Gipson, Rangeland Management Specialist or Misty Hays, Deputy District Ranger, Douglas Ranger District, 2250 E. Richards Street, Douglas, WY 82633 (307) 358-4690. Individuals who use telecommunication devices for the deaf (TDD) may call the Federal Information Relay Service (FIRS) at 1-800-877-8339 between 8 a.m. and 8 p.m., Eastern Standard Time, Monday through Friday.

SUPPLEMENTARY INFORMATION: Vegetation resources on approximately 135,405 acres of NFS lands, lying within the Thunder Bassin National Grassland boundaries and within portions of Weston and Niobrara Counties, Wyoming (Townships 41-48 North, Ranges 62-68 West), are being analyzed to determine if and how existing conditions differ from desired conditions outlined in the 2001 LRMP. Vegetation in the Analysis Area is characteristic of shortgrass prairie, mixed grass prairie and lesser amounts of Ponderosa Pine/Juniper habitats. Johnson and Larson (1999) describe the majority of the Analysis Area as a Big Sagebrush-Wheatgrass Plains Major Vegetation Type, dominated by fairly dense dwarf shrubs, of which most are Wyoming big sagebrush. The midgrass prairie component of the Analysis Area as described by Barker and Whitman (1998) consists of a plant association dominated by needleandthread grass, western wheatgrass and blue grama. A large portion of the Inyan Kara Analysis Area evolved under a history of homesteading in the early twentieth century, but a prolonged drought period combined with the economic depression of the late 1920's and early 1930's caused many of these homesteads to fail. Starting in 1935, land was purchased through the Northeastern Wyoming Land Utilization Project initiated by the Agricultural Adjustment Administration, and continued with the Bankhead Jones Farm Tenant Act of 1937, which was designed to develop a program of land conservation. Administration of these lands was turned over to the Soil Conservation Service the following year, and transferred to the United States Forest Service in 1954.

Today the Thunder Basin National Grassland supports and provides a variety of multiple resource uses and values. Livestock ranching operations in the area depend on National Grassland acreage to create logical and efficient management units. Cattle, sheep, and horses, in accordance with 10-year term and/or annual temporary livestock grazing permits, are currently authorized to graze the allotments within the Analysis Area. In order to determine how existing resource conditions compare to desired conditions, date collection was conducted from 2005 to 2007. During this period, moderate drought conditions impacted plant vigor, canopy and litter cover in some parts of the Analysis Area. Data analysis indicates that seral stage and structural objectives are currently generally meeting vegetation health desired conditions in most portions of the Analysis Area. Other areas of concern based on data analysis include enhancing vegetation conditions in riparian areas and decreasing the frequency and density of non-native invasive species within the analysis area.

Purpose and Need for Action

Need: To continue to authorize livestock grazing and associated vegetation management actions with appropriate identified management options within the Inyan Kara Analysis Area, and to do so in a manner that will resolve any disparities between existing and desired conditions in a suitable timeframe.

Purpose: To implement vegetation management objectives in the Thunder Basin National Grassland Land and Resource Management Plan with goals of increasing native forb and perennial grass diversity, improving riparian area conditions, improving or maintaining vegetation health, and slowing or decreasing the frequency and density of non-native invasive species. This analysis will serve as a guide for implementation of LRMP vegetation management objectives aimed at improving or maintaining vegetation and riparian area conditions, providing desired mixes of seral and structural stages of vegetation, as well as establishing appropriate monitoring techniques that will measure the effectiveness of management activities.

Proposed Action

The Forest Service proposes the following actions to meet the purpose and need described above:

—Manage vegetation through an adaptive management process, which includes authorizing livestock grazing on allotments within the Inyan Kara Analysis Area of the Thunder Basin National Grasslands, that will meet or move toward desired resource conditions.

—Define an allotment specific starting point in which management is believed to be capable of meeting or moving toward desired conditions in a timely manner.

—Monitor to evaluate both implementation and effectiveness of management actions.

In all cases, management will use vegetation management tools that will meet LRMP Objectives, Standards and Guidelines, and maintain or move existing resource conditions toward Geographic Area desired conditions. If monitoring indicates that practices are being properly implemented and that resource trends are moving toward meeting desired conditions in a timely manner, management may continue. If monitoring indicates that there is a need to modify management practices, adaptive options as analyzed in the EIS will be selected and implemented.

Possible Alternatives

(1). No action

(2). Continue current management.

Responsible Official

Robert M. Sprentall, District Ranger, Douglas Ranger District, 2250 East Richards Street, Douglas, Wyoming 82633, is the official responsible for making the decision on this action. He will document his decision and rationale in a Record of Decision.

Nature of Decision To Be Made

The Responsible Official will consider the results of the analysis and its findings and then document the final decision in a Record of Decision (ROD). The decision will determine whether or not to authorize livestock grazing on all, part, or none of the allotments within the Inyan Kara Analysis Area, and if so, what adaptive management design criteria, adaptive options, and monitoring will be implemented so as to meet or move toward the desired conditions in the defined timeframe.

Scoping Process

Concurrent with this NOI, letters requesting comments will be sent to interested parties. Anyone who provides comments to the DEIS or expresses interest during the comment period will have eligibility.

Preliminary Issues

The Forest Service has identified the following preliminary issues: (1) Current impacts to riparian resources from moderate drought, and livestock and wildlife grazing/browsing; (2) Potential impacts to livestock grazing permits on National Grasslands; (3) Current impacts to soil resources from livestock and wildlife grazing/browsing and drought.

Comment Requested

This notice of intent initiates the scoping process which guides the development of the EIS.

Early Notice of Importance of Public Participation in Subsequent Environmental Review: A draft EIS will be prepared for comment. The comment period on the draft environmental impact statement will be 45 days from the date the Environmental Protection Agency publishes the notice of availability in the Federal Register.

The Forest Service believes it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978).

Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

(Authority: 40 CFR 1501.7 and 1508.22; Forest Service Handbook 1909.15, Chapter 20, Section 21).

Dated: November 20, 2007.
Misty A. Hays,
Deputy District Ranger.

[FR Doc. 07-5894 Filed 11-30-07; 8:45 am]

BILLING CODE 3410-11-M